NUCLEAR REGULATORY COMMISSION

Biweekly Notice; Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission to publish notice of any amendments issued, or proposed to be issued, and grants the Commission the authority to issue and make immediately effective any amendment to an operating license upon a determination by the Commission that such amendment involves no significant hazards consideration, notwithstanding the pendency before the Commission of a request for a hearing from any person.

This biweekly notice includes all notices of amendments issued, or proposed to be issued from September 29, 2006, to October 12, 2006. The last biweekly notice was published on October 10, 2006 ( 71 FR 59529).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Arizona Public Service Company, et al., Docket Nos. STN 50-528, STN 50-529, and STN 50-530, Palo Verde Nuclear Generating Station, Units 1, 2, and 3, Maricopa County, Arizona

Date of amendments request: August 16, 2006.

Description of amendments request: The proposed amendments would revise several Surveillance Requirements (SRs) in Technical Specification (TS) 3.8.1, “AC Sources—Operating,” to allow these SRs to be performed, or partially performed, in reactor modes that currently are not allowed by the TSs. The proposed changes would also require certain SRs to be performed at a power factor of ≤0.9 if performed with the emergency diesel generators synchronized to the grid, unless grid conditions do not permit.

Basis for proposed no significant hazards consideration determination: As required by 10 CFR 50.91(a), the licensee has provided its analysis of the issue of no significant hazards consideration, which is presented below:

1. Does the proposed change involve a significant increase in the probability or consequences of an accident previously evaluated?

Response: No.

The emergency diesel generators (DGs) and their associated emergency loads are accident mitigating features, rather than accident initiating equipment. Each DG is dedicated to a specific vital bus and these buses and DGs are independent of each other. There is no common mode failure provided by the testing changes proposed in this license amendment request (LAR) that would cause multiple bus failures. Therefore, there will be no significant impact on any accident probabilities by the approval of the requested amendment.

The design of plant equipment is not being modified by these proposed changes.

The changes include an increase in the online time the DG will be paralleled to the grid in Mode[s] 1, 2, 3, and 4. The overall time that the DG is paralleled in all modes (outage/non-outage) should remain unchanged. As such, the ability of the DGs to respond to a design basis accident (DBA) can be adversely impacted by the proposed changes. However, the impacts are not considered significant based on the DG under test maintaining its ability to respond to an auto-start signal were one to be received during testing, along with the ability of the remaining DG to mitigate a DBA or provide a safe shutdown, and data that shows that the DG itself will not perturb the electrical system significantly. Furthermore, the proposed amendments for surveillance requirements (SR) 3.8.1.10 and SR 3.8.1.14 share the same electrical configuration alignment to the current monthly 1-hour loaded surveillance.

SR changes that are consistent with Industry/Technical Specification Task Force (TSTF) Standard Technical Specification (STS) change TSTF-283, Revision 3 and NUREG-1432, Revision 2 have been approved by the NRC, and the on-line tests allowed by the TSTF and the NUREG are only to be performed for the purpose of establishing operability of the DG being tested. Performance of these SRs during previously restricted modes will require an assessment to assure plant safety is maintained or enhanced.

The proposed changes to SRs 3.8.1.10 and 3.8.1.14 to require that these SRs be performed at a power factor of ≤0.9 if performed with the emergency diesel generators synchronized to the grid unless grid conditions do not permit are consistent with NRC-approved NUREG-1432, Standard Technical Specifications, Combustion Engineering Plants, and NRC-approved TSTF-276, Revision 2. This requirement ensures that the DG is tested under load conditions that are as close to design basis conditions as possible. A power factor of ≤0.9 is representative of the actual inductive loading a DG would see under design basis accident conditions. Under certain conditions, however, the proposed change allows the surveillance to be conducted at a power factor other than ≤0.9. These conditions occur when grid voltage is high, and the additional field excitation needed to get the power factor to ≤0.9 results in voltages on the emergency busses that are too high. Under these conditions, the power factor should be maintained as close as practicable to 0.9 while still maintaining acceptable voltage limits on the emergency busses. In other circumstances, the grid voltage may be such that the DG excitation levels needed to obtain a power factor of 0.9 may not cause unacceptable voltages on the emergency busses, but the excitation levels are in excess of those recommended for the DG. In such cases, the power factor shall be maintained as close as practicable to 0.9 without exceeding DG excitation limits.

As stated above, a power factor ≤0.9 should be able to be achieved when performing this SR at power and synchronized with offsite power by transferring house loads from the auxiliary transformer to the startup transformer in order to lower the Class 1E bus voltage. Transferring house loads from the auxiliary transformer to the startup transformer is routinely performed at power, in accordance with procedure 40OP-9NA03. The circuit breakers supplying the house loads (NAN-S01 and NAN-S02) from the auxiliary and startup transformers are interlocked such that one supply breaker does not open until the alternate supply breaker is closed. This ensures that the bus remains energized during the transfer.

Therefore, the proposed change does not involve a significant increase in the probability or consequences of an accident previously evaluated.

2. Does the proposed change create the possibility of a new or different accident from any accident previously evaluated?

Response: No.

The proposed changes would create no new accidents since no changes are being made to the plant that would introduce any new accident causal mechanisms. Equipment will be operated in the same configuration currently allowed by other DG SRs that allow testing in plant Modes 1, 2, 3, and 4. This license amendment request does not impact any plant systems that are accident initiators or adversely impact any accident mitigating systems.

Therefore, the proposed change does not create the possibility of a new or different accident from any accident previously evaluated.

3. Does the proposed change involve a significant reduction in a margin of safety?

Response: No.

The proposed changes do not involve a significant reduction in a margin of safety. The margin of safety is related to the ability of the fission product barriers to perform their design safety functions during and following an accident situation. These barriers include the fuel cladding, the reactor coolant system, and the containment system. The proposed changes to the testing requirements for the plant DGs do not affect the operability requirements for the DGs, as verification of such operability will continue to be performed as required (except during different allowed modes). Continued verification of operability supports the capability of the DGs to perform their required function of providing emergency power to plant equipment that supports or constitutes the fission product barriers. Only one DG is tested at a time and the remaining DG will be available to safely shut down the plant or respond to a DBA, if required. Consequently, the performance of these fission product barriers will not be impacted by implementation of the proposed amendment.

In addition, the proposed changes involve no changes to safety setpoints or limits established or assumed by the accident analysis. On this and the above basis, no safety margins will be impacted.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: David Terao.

Dominion Energy Kewaunee, Inc., Docket No. 50-305, Kewaunee Power Station, Kewaunee County, Wisconsin

Date of amendment request: September 25, 2006.

Description of amendment request: The proposed amendment would revise Technical Specification (TS) 4.2.a, “ASME Code Class 1, 2, 3, and MC Components and Supports.” The revised TS 4.2.a, Item 2, would reference the American Society of Mechanical Engineers Code for Operation and Maintenance.

Basis for proposed no significant hazards consideration determination: As required by 10 CFR 50.91(a), the licensee has provided its analysis of the issue of no significant hazards consideration, which is presented below:

1. Does the proposed change involve a significant increase in the probability or consequences of an accident previously evaluated?

No. The proposed change revises the Kewaunee Power Station (Kewaunee) Technical Specification (TS) TS 4.2.a.2 regarding in-service testing of ASME Code Class 1, Class 2 and Class 3 pumps and valves. The proposed change revises the TS to be consistent with the requirements of 10 CFR [Title 10, Code of Federal Regulations] 50.55a(f)(4) for pumps and valves which are classified as American Society of Mechanical Engineers (ASME) Code Class 1, Class 2 and Class 3. The proposed change incorporates revisions to the ASME Code that result in a net improvement in the measures for in-service testing of pumps and valves.

As a net improvement in the in-service testing of pumps and valves, the proposed change does not negatively impact any accident initiators, analyzed events, or assumed mitigation of accident or transient events. It does not involve the addition or removal of any equipment, or any design changes to the facility. Therefore, this proposed change does not involve a significant increase in the probability or consequences of an accident previously evaluated.

2. Does the proposed change create the possibility of a new or different kind of accident from any accident previously evaluated?

No. The proposed change revises Kewaunee TS 4.2.a.2 regarding in-service testing of ASME Code Class 1, Class 2 and Class 3 pumps and valves, for consistency with the requirements of 10 CFR 50.55a(f)(4). The proposed change incorporates revisions to the ASME Code that result in a net improvement in the measures for testing pumps and valves.

The proposed change does not involve a modification to the physical configuration of the plant (i.e., no new equipment will be installed) or adversely affect methods governing normal plant operation. The proposed change will not impose any new or different requirements or introduce a new accident initiator, accident precursor, or malfunction mechanism. The proposed change does not alter existing test criteria or frequencies. Additionally, there is no change in the types or increases in the amounts of any effluent that may be released off-site and there is no increase in individual or cumulative occupational exposure. Therefore, this proposed change does not create the possibility of an accident of a different kind than previously evaluated.

3. Does the proposed change involve a significant reduction in a margin of safety?

No. The proposed change revises TS 4.2.a.2 regarding in-service testing of ASME Code Class 1, Class 2, and Class 3 pumps and valves, for consistency with the requirements of 10 CFR 50.55a(f)(4). The proposed change incorporates revisions to the ASME Code that result in a net improvement in the measures for testing pumps and valves. The safety function of the affected pumps and valves will continue to be confirmed through testing. Therefore, this proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Bradley D. Jackson, Esq., Foley and Lardner, P.O. Box 1497, Madison, WI 53701-1497.

NRC Branch Chief: M. Murphy (Acting).

Dominion Nuclear Connecticut, Inc., Docket Nos. 50-336 and 50-423, Millstone Power Station, Unit Nos. 2 and 3, New London County, Connecticut

Date of amendment request: September 1, 2006.

Description of amendment request: The proposed amendment would revise the Millstone Power Station, Unit Nos. 2 and 3 (MPS2 and MPS3) Technical Specifications (TSs) to replace the terms “trash racks and screens” with the term “strainers”.

Basis for proposed no significant hazards consideration determination: As required by 10 CFR 50.91(a), the licensee has provided its analysis of the issue of no significant hazards consideration, which is presented below:

Criterion 1:

Does the proposed amendment involve a significant increase in the probability or consequences of an accident previously evaluated?

Response: No.

Although the configurations of the existing sump screen and the replacement strainer assemblies are different, they serve the same fundamental purpose of passively removing debris from the sump's suction supply of the supported system pumps. Replacing trash racks with strainers does not adversely impact the adequacy of pump net positive suction head assumed in the safety analyses. In fact, it will improve it. Likewise, the proposed change does not reduce the reliability of any supported systems or introduce any new system interactions. A missile evaluation of the new strainer design concluded that there is no credible missile that could damage the strainer when needed during a loss-of-coolant accident [LOCA]. A jet impingement evaluation of the new strainer design concluded that there are no credible high energy line break jets that could damage the strainer when needed during a LOCA. The greatly increased surface area of the new strainer will reduce the approach velocity of the strainer face significantly, further decreasing the risk of impact from large debris entrained in the sump flow stream. The proposed rewording of the SRs [surveillance requirements] will continue to ensure that the ECCS [emergency core cooling system] sump suction inlet strainers show no evidence of structural distress or abnormal corrosion for MPS2 and [MPS]3 with or without the strainer modification complete. As such, the proposed change does not involve a significant increase in the probability or consequences of an accident previously evaluated.

Criterion 2:

Does the proposed amendment create the possibility of a new or different kind of accident from any accident previously evaluated?

Response: No.

During the next refueling outage for each unit, DNC [Dominion Nuclear Connecticut, Inc.] is replacing the ECCS trash racks and screens with strainers in support of the response to Generic Letter 2004-02 on Millstone Units 2 and 3. The ECCS strainers are passive components in standby safety systems used for accident mitigation. As such, they are not accident initiators. Therefore, there is no possibility that this change could create any accident of any kind. A change to TS SRs 4.5.2.j for MPS2 and 4.5.2.d.2 for MPS3 addresses differences in nomenclature between the existing and [Generic Safety Issue] GSI-191 designs. These changes do not alter the nature of events postulated in the Final Safety Analysis Report nor do they introduce any unique precursor mechanisms. Therefore, the proposed amendment will not create the possibility of a new or different kind of accident from any accident previously evaluated.

Criterion 3:

Does the proposed amendment involve a significant reduction in a margin of safety?

Response: No.

The proposed changes do not adversely affect any plant safety limits, set points, or design parameters. The changes also do not adversely affect the fuel, fuel cladding, reactor coolant system (RCS), or containment integrity. Therefore, the proposed TS change, which revises the terminology associated with TS SRs, does not involve a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Rope Ferry Road, Waterford, CT 06385.

NRC Acting Branch Chief: Brooke D. Poole.

Entergy Operations, Inc., Docket Nos. 50-313 and 50-368, Arkansas Nuclear One, Units 1 and 2 (ANO-1&2), Pope County, Arkansas

Date of amendment request: October 25, 2005.

Description of amendment request: The proposed change modifies inventory and inspection requirements associated with the Emergency Cooling Pond (ECP), which is a common cooling water source for ANO-1&2 during conditions that may render the normal cooling water source (Dardanelle Reservoir) unavailable.

Basis for proposed no significant hazards consideration determination: As required by 10 CFR 50.91(a), the licensee has provided its analysis of the issue of no significant hazards consideration, which is presented below:

1. Does the proposed change involve a significant increase in the probability or consequences of an accident previously evaluated?

Response: No.

The indicated ECP level is an operator aid for routine verification that the required ECP inventory of 70 acre-feet is maintained. Relocation of this indication to the TS [technical specification] Bases does not change the design basis and, therefore, has no impact on any accident described in the SAR [safety analysis report]. The relocation of excessive SR [surveillance requirement] details to the TS Bases does not reduce the level of testing required with regard to ECP operability verifications. Actual ECP inspection is more detailed than that currently described in the TSs. The relocation of this excessive detail to the TS Bases, therefore, has no impact on any accident described in the SAR. Finally, the inclusion of a new Action associated with the discovery of degradation of the ECP structure is more restrictive in that the proposed engineering evaluation must be performed within 7 days. Previously, the TS Bases did not require a completion time for this action. Actions associated with TS Limiting Conditions for Operation (LCO) or SRs are below the level of detail described in the SAR and, therefore, have no impact on any accident currently described in the SAR.

Therefore, the proposed change does not involve a significant increase in the probability or consequences of an accident previously evaluated.

2. Does the proposed change create the possibility of a new or different kind of accident from any accident previously evaluated?

Response: No.

The aforementioned proposed change to the TSs does not require any physical alteration to the plant or alter plant design. The ECP is not an accident initiator. The proposed change does not adversely impact the function of the ECP as credited in any safety analyses for the prevention or mitigation of any accident.

Therefore, the proposed change does not create the possibility of a new or different kind of accident from any previously evaluated.

3. Does the proposed change involve a significant reduction in a margin of safety?

Response: No.

The proposed change does not adversely impact a margin of safety analysis for any accident previously evaluated. Relocation of the indicated ECP level that corresponds to the required ECP volume of 70 acre-feet and the relocation of excessive SR details to the TS Bases will not result in a credible increase in nuclear safety risk. In addition, the TS Bases is part of the SAR and controlled under 10 CFR 50.59. The inclusion of a new action relocated from the TS Bases to the TS with completion time constraint is more conservative than currently described in the TS Bases. The proposed change acts to correct current TS deficiencies and, therefore, is considered risk neutral.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Nicholas S. Reynolds, Esquire, Winston and Strawn, 1700 K Street, NW., Washington, DC 20006-3817.

NRC Branch Chief: David Terao.

Entergy Gulf States, Inc., and Entergy Operations, Inc., Docket No. 50-458, River Bend Station, Unit 1, West Feliciana Parish, Louisiana

Date of amendment request: September 19, 2006.

Description of amendment request: The proposed change will revise River Bend Station, Unit 1, (RBS) Technical Specifications (TS) Surveillance Requirement 3.6.1.3.5 to replace the currently specified frequency for leak testing containment purge supply and exhaust isolation valves with resilient seal materials with a requirement to test these valves in accordance with the Containment Leakage Rate Testing Program. The RBS Containment Leakage Rate Testing Program is implemented in accordance with the Code of Federal Regulations, Part 50, Appendix J, Option B, and Regulatory Guide (RG) 1.163, “Performance-Based Containment Leak Test Program,” dated September 1995. RG 1.163 allows a nominal test interval of 30 months for containment purge and vent valves.

Basis for proposed no significant hazards consideration determination: As required by 10 CFR 50.91(a), the licensee has provided its analysis of the issue of no significant hazards consideration, which is presented below:

1. Does the proposed change involve a significant increase in the probability or consequences of an accident previously evaluated?

Response: No.

This change deletes the augmented testing requirement for these containment isolation valves and allows the surveillance intervals to be set in accordance with the Containment Leakage Rate Testing Programs. This change does not affect the system function or design. The purge valves are not an initiator of any previously analyzed accident. Leakage rates do not affect the probability of the occurrence of any accident. Operating history has demonstrated that the valves do not degrade and cause leakage as previously anticipated. Because these valves have been demonstrated to be reliable, these valves can be expected to perform the containment isolation function as assumed in the accident analyses. Therefore, there is no significant increase in the consequences of any previously evaluated accident.

Therefore, the proposed change does not involve a significant increase in the probability or consequences of an accident previously evaluated.

2. Does the proposed change create the possibility of a new or different kind of accident from any accident previously evaluated?

Response: No.

Extending the test intervals has no influence on, nor does it contribute in any way to, the possibility of a new or different kind of accident or malfunction from those previously analyzed. No change has been made to the design, function or method of performing leakage testing. Leakage acceptance criteria have not changed. No new accident modes are created by extending the testing intervals. No safety-related equipment or safety functions are altered as a result of this change.

Therefore, the proposed change does not create the possibility of a new or different kind of accident from any previously evaluated.

3. Does the proposed change involve a significant reduction in a margin of safety?

Response: No.

The only margin of safety that has the potential of being impacted by the proposed changes involves the offsite dose consequences of postulated accidents which are directly related to the containment leakage rate. The proposed change does not alter the method of performing the tests nor does it change the leakage acceptance criteria. Sufficient data has been collected to demonstrate these resilient seals do not degrade at an accelerated rate.

Because of this demonstrated reliability, this change will provide sufficient surveillance to determine an increase in the unfiltered leakage prior to the leakage exceeding that assumed in the accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mark Wetterhahn, Esq., Winston & Strawn LLP, 1700 K Street, NW., Washington, DC 20006.

NRC Branch Chief: David Terao.

Nuclear Management Company, LLC, Docket No. 50-255, Palisades Nuclear Plant (PNP), Van Buren County, Michigan

Date of amendment request: May 30, 2006.

Description of amendment request: The proposed amendment would revise Technical Specification (TS), Section 5.5.8, “Steam Generator Program,” to modify the steam generator (SG) provisions for tube inspections, as contained in the PNP TS Surveillance Requirements, Section 5.5.8.d. The purpose of these changes is to define the depth of the required tube inspections. WCAP-16208-P, “NDE Inspection Length for CE [Combustion Engineering] Steam Generator Tubesheet Region Explosive Expansions,” Revision 1, provided recommended tubesheet region inspection lengths for plants with CE-supplied steam generators with explosive expansions. This inspection length is referred to as C* (“C-Star”). Nuclear Management Company (NMC) intends to implement the C* inspection methodology for PNP.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not involve a significant increase in the probability of an accident previously evaluated because the modification to TS Section 5.5.8.d maintains the existing design limits and would not increase the probability or consequences of an accident involving tube burst or primary to secondary accident-induced leakage, as previously analyzed in the UFSAR [Updated Final Safety Analysis Report]. Also, the tube burst and collapse criteria of NRC [Nuclear Regulatory Commission] Regulatory Guide 1.121, “Basis for Plugging Degraded PWR Steam Generator Tubes,” would continue to be satisfied.

Tube burst is precluded for a tube with defects within the tubesheet region because of the constraint provided by the tubesheet. As such, tube pullout resulting from the axial forces induced by primary to secondary differential pressures would be a prerequisite for tube burst to occur. A joint industry test program, WCAP-16208-P, has defined the nondegraded tube to tubesheet joint length required to preclude tube pullout C °) and maintain acceptable primary to secondary accident-induced leakage, assuming a 360° circumferential through wall crack existed immediately below this length. For PNP, C ° is 12.5 inches. Any degradation below C ° is shown by empirical test results and analyses to be acceptable, thereby precluding an event with consequences similar to a postulated tube rupture event.

WCAP-1 6208-P incorporates an assumed primary to secondary accident-induced leakage value of 0.1 gpm/SG. The NMC TSTF [Technical Specifications Task Force]-449 submittal to the NRC provided the PNP SG tube integrity related TS. LCO [Limiting Condition for Operation] 3.4.13, item d., “PCS Operational Leakage,” states that operational leakage through any one SG shall be limited to 150 gallons per day. The UFSAR Chapter 14.14-6 accident-induced leakage limit assumption based on MSLB [main steam-line break] is 0.3 gallons per minute (432 gallons per day). Therefore, the LCO leakage limit is conservatively less than the design basis accident induced leakage limit.

In summary, the proposed modifications to the PNP Technical Specifications maintain existing design limits and do not involve a significant increase in the probability or consequences of an accident previously evaluated in the UFSAR.

Therefore, operation of the facility in accordance with the proposed amendment would not involve a significant increase in the probability or consequences of an accident previously evaluated.

2. Does the proposed amendment create the possibility of a new or different kind of accident from any accident previously evaluated?

Response: No.

The proposed amendment does not create the possibility of a new or different kind of accident from any accident previously evaluated because SG tube leakage and structural integrity will continue to be maintained during all plant conditions upon implementation of the proposed inspection scope to the PNP TSs. The revised inspection scope does not introduce any new mechanisms that might result in a different kind of accident from those previously evaluated. Even with the limiting circumstances of a complete circumferential separation (360-degree through wall crack) of a tube below the C* length, tube pullout is precluded and leakage is predicted to be maintained within the TS limits during all plant conditions.

Therefore, the proposed amendment does not create the possibility of a new or different kind of accident from any accident previously evaluated.

3. Does the proposed amendment involve a significant reduction in a margin of safety?

Response: No.

The proposed amendment does not involve a significant reduction in a margin of safety. The requirements for the inspection of SG tubes are intended to ensure that this portion of the primary coolant system maintains its integrity. Tube integrity means that the tubes are capable of performing these functions in accordance with the plant design and licensing basis. Tube integrity includes both structural and leakage integrity. The proposed tubesheet inspection depth of 12.5 inches will ensure tube integrity is maintained because any degradation below C* is shown by empirical test results and analyses to be acceptable. In addition, operation with potential tube degradation below the C* inspection length continues to meet the margin of safety as defined by RG [Regulatory Guide] 1.121, “Basis for Plugging Degraded PWR Steam Generator Tubes,” and RG 1.83, “Inservice Inspection of Pressurized Water Reactor Steam Generator Tubes.” Therefore, the proposed modifications do not involve a significant reduction in a margin of safety.

The NRC staff has reviewed the licensee's analysis and, based on this review, it appears that the three standards of 10 CFR 50.92(c) are satisfied. Therefore, the NRC staff proposes to determine that the amendment request involves no significant hazards consideration.

Attorney for licensee: Jonathan Rogoff, Esquire, Vice President, Counsel & Secretary, Nuclear Management Company, LLC, 700 First Street, Hudson, WI 54016.

NRC Branch Chief: Martin C. Murphy, Acting Branch Chief.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Nuclear Connecticut, Inc., Docket No. 50-423, Millstone Power Station, Unit No. 3, New London County, Connecticut

Date of application for amendment: March 28, 2006.

Brief description of amendment: The amendment revised Facility Operating License No. NPF-49 by deleting Section 2.F, which specifies reporting of violations of the requirements of Section 2.C of the renewed operating license.

Date of issuance: October 4, 2006.

Effective date: As of the date of issuance and shall be implemented within 60 days from the date of issuance.

Amendment No.: 234.

Facility Operating License No. NPF-49: The amendment revised the License.

Date of initial notice in Federal Register: May 9, 2006 (71 FR 26997).

The Commission's related evaluation of the amendment is contained in a Safety Evaluation dated October 4, 2006.

No significant hazards consideration comments received: No.

Entergy Operations, Inc., Docket No. 50-368, Arkansas Nuclear One, Unit No. 2, Pope County, Arkansas

Date of application for amendment: September 19, 2005, as supplemented by letters dated February 28, May 31, and September 26, 2006.

Brief description of amendment: The amendment revised Technical Specification (TS) 3.6.2.1, “Containment Spray System.” Specifically, the change revised the allowable outage time (AOT) for TS 3.6.2.1 from 72 hours to 7 days during fuel cycles 19 and 20. Per the license amendment request, the AOT extension may only be invoked twice (i.e., once for each train or twice for one train). The requested changes are sought to provide needed flexibility in the performance of selected corrective and preventative maintenance activities during power operations. Currently, the licensee's maintenance activities on containment spray system components are performed during the refueling outages; taking several days of “around the clock” effort.

Date of issuance: September 28, 2006.

Effective date: As of the date of issuance and shall be implemented within 60 days from the date of issuance.

Amendment No.: 268.

Renewed Facility Operating License No. NPF-6: The amendment revised the Technical Specifications.

Date of initial notice in Federal Register: January 3, 2006 (71 FR 148). The supplements dated February 28, May 31, and September 26, 2006, provided additional information that clarified the application, did not expand the scope of the application as originally noticed, and did not change the staff's original proposed no significant hazards consideration determination as published in the Federal Register.

The Commission's related evaluation of the amendment is contained in a Safety Evaluation dated September 28, 2006.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: August 17, 2005, as supplemented by letter dated May 19, 2006.

Brief description of amendment: The proposed changes revised the Operating License Condition (OLC) 2.C.(41) to add reference to a Nuclear Regulatory Commission (NRC) Safety Evaluation that allows the application of certain risk-informed, performance-based fire protection methods and tools.

Date of issuance: September 29, 2006.

Effective date: As of the date of issuance and shall be implemented within 90 days of issuance.

Amendment No: 170.

Facility Operating License No. NPF-29: The amendment revised the OLC 2.C.(41).

Date of initial notice in Federal Register: October 25, 2005 (70 FR 61658). The supplement dated May 19, 2006, provided additional information that clarified the change the staff's original proposed no significant hazards consideration determination as published in the Federal Register.

The Commission's related evaluation of the amendment is contained in a Safety Evaluation dated September 29, 2006

No significant hazards consideration comments received: No.

Entergy Operations, Inc., Docket No. 50-382, Waterford Steam Electric Station, Unit 3, St. Charles Parish, Louisiana

Date of amendment request: November 5, 2004.

Brief description of amendment: The amendment modified Waterford 3 Technical Specification (TS) 3.7.4, “Ultimate Heat Sink,” to provide clarification that the ambient temperature monitoring requirement that is specified in TS 3.7.4.d only applies when the affected ultimate heat sink train is considered to be operable. The NRC is not approving the request to delete TS 3.7.4.c, which would allow the plant to take credit for the dry cooling tower fans that are not protected from tornado missiles when a tornado warning is in effect.

Date of issuance: September 28, 2006.

Effective date: As of the date of issuance and shall be implemented 60 days from the date of issuance.

Amendment No.: 208.

Facility Operating License No. NPF-38: The amendment revised the Operating License and the Technical Specifications.

Date of initial notice in Federal Register: December 7, 2004 (69 FR 70717).

The Commission's related evaluation of the amendment is contained in a Safety Evaluation dated September 28, 2006.

No significant hazards consideration comments received: No.

Entergy Operations, Inc., Docket No. 50-382, Waterford Steam Electric Station, Unit 3, St. Charles Parish, Louisiana

Date of amendment request: October 27, 2005.

Brief description of amendment: The amendment modified Surveillance Requirement (SR) 4.5.2e of Technical Specification (TS) 3.5.2, “ECCS [Emergency Core Cooling Systems] Subsystems—Modes 1, 2 and 3,” SR 4.6.2.1d of TS 3.6.2, “Containment Spray System,” and SR 4.7.3b of TS 3.7.3, “Component Cooling Water and Auxiliary Component Cooling Water Systems,” to remove the words “during shutdown.” This will provide flexibility allowing components required to be tested by these SRs to be tested online. Additionally, a revision to delete SR 4.7.12.1c of TS 3.7.12, “Essential Services Chilled Water system,” is approved. A modification permanently separating the safety and non-safety portions of the Essential Services Chilled Water system has eliminated the need for automatic isolation valves and thus this SR.

Date of issuance: October 6, 2006.

Effective date: As of the date of issuance and shall be implemented 60 days from the date of issuance.

Amendment No.: 209.

Facility Operating License No. NPF-38: The amendment revised the Technical Specifications and the Facility Operating License.

Date of initial notice in Federal Register: December 20, 2005 (70 FR 75491).

The Commission's related evaluation of the amendment is contained in a Safety Evaluation dated October 6, 2006.

No significant hazards consideration comments received: No.

Entergy Operations, Inc., Docket No. 50-382, Waterford Steam Electric Station, Unit 3, St. Charles Parish, Louisiana

Date of amendment request: October 25, 2005.

Brief description of amendment: The amendment modifies Waterford 3 Technical Specification 6.9.1.11, “Core Operating Limits Report COLR,” to add a methodology that will allow the use of zirconium diboride burnable absorber coating on fuel pellets.

Date of issuance: October 6, 2006.

Effective date: As of the date of issuance and shall be implemented 30 days from the date of issuance.

Amendment No.: 210.

Facility Operating License No. NPF-38: The amendment revised the Operating License and the Technical Specifications.

Date of initial notice in Federal Register: December 6, 2005 (70 FR 72673).

The Commission's related evaluation of the amendment is contained in a Safety Evaluation dated October 6, 2006.

No significant hazards consideration comments received: No.

Exelon Generation Company, LLC, Docket Nos. 50-352 and 50-353, Limerick Generating Station, Units 1 and 2, Montgomery County, Pennsylvania

Date of application for amendments: June 11, 2004, as supplemented by letters dated December 12, 2005, April 4, 2006, and July 28, 2006.

Brief description of amendments: This amendment incorporated a revision to the Technical Specifications (TSs) and licensing and design bases that relocates surveillance test intervals of various TS surveillance requirements to a new program, the Surveillance Frequency Control Program, which will be located in the Administrative Controls Section of the TSs. These amendments are pilot submittals in support of the Boiling Water Reactor Owners' Group Risk-Informed Initiative 5b, “Relocate Surveillance Test Intervals to Licensee Control.”

Date of issuance: September 28, 2006.

Effective date: As of the date of issuance, to be implemented within 60 days.

Amendment Nos. 186, 147.

Facility Operating License Nos. NPF-39 and NPF-85. This amendment revised the facility operating licenses and the TSs.

Date of initial notice in Federal Register: May 24, 2005 (70 FR 29793). The supplements provided clarifying information that did not expand the scope of the application as originally noticed, and did not change the NRC staff's original proposed no significant hazards consideration determination as originally published in the Federal Register.

The Commission's related evaluation of the amendment is contained in a Safety Evaluation dated September 28, 2006.

No significant hazards consideration comments received: No.

FPL Energy Seabrook, LLC, Docket No. 50-443, Seabrook Station, Unit No. 1, Rockingham County, New Hampshire

Date of amendment request: September 29, 2005, as supplemented on August 8, September 18, and September 28, 2006.

Description of amendment request: The amendment revised the Seabrook Station, Unit No. 1 Technical Specifications (TSs) to permit a one-time change in the steam generator tube inspection requirements to include a sampling of the bulges and over-expansions for portions of the steam generator tubes within the hot-leg tubesheet region.

Date of issuance: September 29, 2006.

Effective date: As of its date of issuance, and shall be implemented within 90 days.

Amendment No.: 112.

Facility Operating License No. NPF-86: The amendment revised the License and the Tss.

Date of initial notice in Federal Register: November 8, 2005 (70 FR 67749). The licensee's August 8 and September 28, 2006, supplements provided clarifying information that did not change the scope of the proposed amendment as described in the original notice of proposed action published in the Federal Register, and did not change the initial proposed no significant hazards consideration determination. The supplement dated September 18, 2006, modified the requested amendment to request a one-time change in lieu of a permanent one. This narrowing of scope did not alter the validity of the NRC staff's proposed no significant hazards consideration determination. The Commission's related evaluation of the amendment is contained in a Safety Evaluation dated September 29, 2006.

No significant hazards consideration comments received: No.

Indiana Michigan Power Company, Docket No. 50-315, Donald C. Cook Nuclear Plant, Unit 1, Berrien County, Michigan

Date of application for amendment: May 31, 2006.

Brief description of amendment: The amendment approved elimination of the resistance temperature detector (RTD) bypass piping and installing fast response thermowell-mounted RTDs in the reactor coolant system loop piping. The amendment also revised Surveillance Requirement 3.3.1.15 of the Technical Specifications, deleting the requirement to perform surveillance on the reactor coolant system RTD bypass loop flow rate.

Date of issuance: October 6, 2006.

Effective date: As of the date of issuance and shall be implemented prior to entry into Mode 2 from the fall 2006 refueling outage.

Amendment No.: 296.

Facility Operating License No. DPR-58: Amendment revise the Technical Specifications.

Date of initial notice in Federal Register: July 5, 2006 (71 FR 38182). The Commission's related evaluation of the amendment is contained in a Safety Evaluation dated October 6, 2006.

No significant hazards consideration comments received: No.

Nebraska Public Power District, Docket No. 50-298, Cooper Nuclear Station, Nemaha County, Nebraska

Date of amendment request: January 30, 2006, as supplement by May 17 and August 29, 2006.

Brief description of amendment: The amendment revised the Cooper Nuclear Station Technical Specification Section 5.5.12, “Primary Containment Leakage Rate Testing Program,” to allow a one-time extension of no more than 5 years for the Type A, Integrated Leakage Rate Test (ILRT) interval. This revision is a one-time exception to the 10-year frequency of the performance-based leakage rate testing program for Type A tests as defined in Nuclear Energy Institute (NEI) document, NEI 94-01, Revision 0, “Industry Guideline for Implementing Performance-Based Option of 10 CFR Part 50, Appendix J,” pursuant to 10 CFR Part 50, Appendix J, Option B. The requested exception is to allow the ILRT to be performed within 15 years from the last ILRT, last performed on December 7, 1998.

Date of issuance: October 3, 2006.

Effective date: As of the date of issuance and shall be implemented within 30 days of issuance.

Amendment No.: 224.

Facility Operating License No. DPR-46: Amendment revised the Technical Specifications.

Date of initial notice in Federal Register: April 25, 2006 (71 FR 23957). The supplement dated May 17 and August 29, 2006, provided additional information that clarified the application, did not expand the scope of the application as originally noticed, and did not change the staff's original proposed no significant hazards consideration determination as published in the Federal Register. The Commission's related evaluation of the amendment is contained in a Safety Evaluation dated October 3, 2006.

No significant hazards consideration comments received: No.

Nine Mile Point Nuclear Station, LLC, Docket No. 50-220, Nine Mile Point Nuclear Station, Unit No. 1, Oswego County, New York

Date of application for amendment: January 18, 2006.

Brief description of amendment: The amendment deletes the reference to the hydrogen monitors in Technical Specification 3.6.11, “Accident Monitoring Instrumentation.”

Date of issuance: October 2, 2006.

Effective date: As of the date of issuance to be implemented within 60 days.

Amendment No.: 191.

Facility Operating License No. DPR-63: Amendment revises the Technical Specifications and License.

Date of initial notice in Federal Register: July 18, 2006 (71 FR 40749) The Commission's related evaluation of the amendment is contained in a Safety Evaluation dated October 2, 2006.

No significant hazards consideration comments received: No.

Nuclear Management Company, LLC, Docket Nos. 50-282 and 50-306, Prairie Island Nuclear Generating Plant, Units 1 and 2, Goodhue County, Minnesota

Date of application for amendments: December 13, 2005, supplemented by letters dated June 7, and July 21, 2006.

Brief description of amendments: The amendments revise technical specification 5.5.14 “Containment Leakage Rate Testing Program” for Prairie Island Nuclear Generating Plant Units 1 and 2, to allow a one-time interval extension of no more than 5 years for the Appendix J Type A, Integrated Leakage Rate Test.

Date of issuance: October 2, 2006.

Effective date: As of the date of issuance and shall be implemented within 30 days.

Amendment Nos.: 174 and 164.

Facility Operating License Nos. DPR-42 and DPR-60: Amendments revised the Technical Specifications.

Date of initial notice in Federal Register: January 31, 2006 (71 FR 5081) The supplemental information provided by letters dated June 7, and July 21, 2006, did not change the no significant hazards determination.

The Commission's related evaluation of the amendments is contained in a Safety Evaluation dated October 2, 2006.

No significant hazards consideration comments received: No.

Pacific Gas and Electric Company, Docket Nos. 50-275 and 50-323, Diablo Canyon Nuclear Power Plant, Unit Nos. 1 and 2, San Luis Obispo County, California

Date of application for amendments: January 19, 2006, as supplemented by letter dated June 20, 2006.

Brief description of amendments: The amendments deleted the antitrust conditions from the facility operating licenses.

Date of issuance: October 2, 2006.

Effective date: As of the date of issuance and shall be implemented within 90 days of issuance.

Amendment Nos.: Unit 1-189; Unit 2-191.

Facility Operating License Nos. DPR-80 and DPR-82: The amendments revised the Facility Operating Licenses.

Date of initial notice in Federal Register: April 14, 2006 (71 FR 19551) The supplemental letter dated June 20, 2006, provided additional information that clarified the application, and did not expand the scope of the application as originally noticed. The Commission's related evaluation of the amendments is contained in a Safety Evaluation dated October 2, 2006.

No significant hazards consideration comments received: No.

PPL Susquehanna, LLC, Docket No. 50-387 and 50-388, Susquehanna Steam Electric Station, Units 1 and 2 (SSES 1 and 2), Luzerne County, Pennsylvania

Date of application for amendments: November 9, 2004, as supplemented on December 15, 2005, June 30, 2006, August 18, 2006, and September 28, 2006.

Brief description of amendments: The amendments revise the SSES 1 and 2 Technical Specifications (TSs) 3.8.4, “DC Sources—Operating,” 3.8.5, “DC Sources-Shutdown,” 3.8.6, “Battery Cell Parameters,” and add a new TS Section, 5.5.13, “Battery Monitoring and Maintenance Program.” These changes are consistent with TS Task Force (TSTF) 360, Revision 1.

Date of issuance: September 28, 2006.

Effective date: As of the date of issuance and to be implemented within 60 days.

Amendment Nos.: 238 and 215.

Facility Operating License Nos. NPF-14 and NPF-22: The amendments revised the TSs and license.

Date of initial notice in Federal Register: January 17, 2006 (71 FR 2596). The Commission's related evaluation of the amendments is contained in a Safety Evaluation dated September 28, 2006.

The supplements dated December 15, 2005, June 30, 2006, August 18, 2006, and September 28, 2006, provided additional information that clarified the application, did not expand the scope of the application as originally noticed, and did not change the staff's original proposed no significant hazards consideration determination.

No significant hazards consideration comments received: No.

PSEG Nuclear LLC, Docket No. 50-311, Salem Nuclear Generating Station, Unit No. 2, Salem County, New Jersey

Date of application for amendment: September 21, 2005, as supplemented by letters dated June 28, 2006, and August 4, 2006.

Brief description of amendment: The amendment revises the extent of steam generator tube inspections in the hot-leg side of the tubesheet.

Date of issuance: September 28, 2006.

Effective date: As of the date of issuance, to be implemented within 60 days from date of issuance.

Amendment No.: 256.

Facility Operating License No. DPR-75: This amendment revised the Technical Specifications and License.

Date of initial notice in Federal Register: January 7, 2006 (71 FR 2594). The supplements did not expand the scope of the request, or change the original proposed no significant hazards consideration determination. The Commission's related evaluation of the amendment is contained in a Safety Evaluation dated September 28 2006.

No significant hazards consideration comments received: No.

Southern California Edison Company, et al., Docket Nos. 50-361 and 50-362, San Onofre Nuclear Generating Station, Units 2 and 3, San Diego County, California

Date of application for amendments: April 17, 2006.

No significant hazards consideration comments received: No.

Brief description of amendments: The proposed amendments deleted Section 2.G of the Facility Operating Licenses, which required reporting of violations of the requirements in Sections 2.C(1), 2.C(3), and 2.F of the Facility Operating Licenses.

Date of issuance: October 3, 2006.

Effective date: As of the date of issuance and shall be implemented within 60 days of issuance.

Amendment Nos.: Unit 2-205; Unit 3-197.

Facility Operating License Nos. NPF-10 and NPF-15: The amendments deleted Section 2.G of the Facility Operating Licenses.

Date of initial notice in Federal Register: May 9, 2006 (71 FR 27003) The Commission's related evaluation of the amendments is contained in a Safety Evaluation dated October 3, 2006.

No significant hazards consideration comments received: No.

Tennessee Valley Authority, Docket No. 50-259, Browns Ferry Nuclear Plant, Unit 1, Limestone County, Alabama

Date of application for amendment: August 16, 2004 (TS-433) as supplemented by letter dated September 30, 2005.

Brief description of amendment: The proposed amendment extends the frequency of “once-per cycle” from 18 to 24 months in several Technical Specification (TS) Surveillance Requirements. This change will allow the adoption of a 24-month refueling cycle.

Date of issuance: September 28, 2006.

Effective date: Date of issuance, to be implemented within 60 days.

Amendment No.: 263.

Renewed Facility Operating License No. DPR-33: Amendment revised the TSs.

Date of initial notice in Federal Register: March 29, 2005 (70 FR 15947). The supplement dated September 30, 2005, provided additional information that clarified the application, did not expand the scope of the application as originally noticed, and did not change the NRC staff's original proposed no significant hazards determination as published in the Federal Register. The Commission's related evaluation of the amendment is contained in a Safety Evaluation dated September 28, 2006.

No significant hazards consideration comments received: No.

Tennessee Valley Authority, Docket No. 50-259, Browns Ferry Nuclear Plant, Unit 1, Limestone County, Alabama

Date of amendment request: October 12, 2004, as supplemented April 27 and June 27, 2005 (TS-438).

Description of amendment request: The amendment revised the frequency requirement for Technical Specification (TS) Surveillance Requirement (SR) 3.6.1.3.8 by allowing a representative sample (approximately 20 percent) of excess flow check valves (EFCVs) to be tested every 24 months, so that each EFCV is tested once every 120 months. The current SR requires testing of each EFCV every 24 months.

Date of issuance: September 29, 2006.

Effective date: Date of issuance, to be implemented within 30 days.

Amendment No.: 264.

Facility Operating License Nos. DPR-33: Amendment revised the TSs.

Date of initial notice in Federal Register: March 29, 2005 (70 FR 15948). The supplemental letters provided clarifying information that did not expand the scope of the original application or change the initial proposed no significant hazards consideration determination. The Commission's related evaluation of the amendment is contained in a Safety Evaluation dated September 29, 2006.

No significant hazards consideration comments received: No.

Tennessee Valley Authority, Docket No. 50-390, Watts Bar Nuclear Plant, Unit 1, Rhea County, Tennessee

Date of application for amendment: February 24, 2006, as supplemented by letter dated May 8, 2006 (TS-06-02).

Brief description of amendment: The amendment revises the Updated Final Safety Analysis Report (UFSAR) by modifying the design and licensing basis to incorporate revised dose analysis inputs and results for the steam generator tube rupture accident. The analysis was revised as a result of an error in the computer model used to calculate the dose consequences to the Main Control Room subsequent to an accident.

Date of issuance: October 4, 2006.

Effective date: As of the date of issuance and shall be implemented as part of the next UFSAR update made in accordance with 10 CFR 50.71(e).

Amendment No.: 64.

Facility Operating License No. NPF-90: Amendment authorizes revision of the UFSAR.

Date of initial notice in the Federal Register: April 25, 2006 (71 FR 23962). The supplemental letter provided clarifying information that was within the scope of the initial notice and did not change the initial proposed no significant hazards consideration determination.

The Commission's related evaluation of the amendment is contained in a Safety Evaluation dated October 4, 2006.

No significant hazards consideration comments received: No.

TXU Generation Company LP, Docket Nos. 50-445 and 50-446, Comanche Peak Steam Electric Station, Unit Nos. 1 and 2, Somervell County, Texas

Date of amendment request: December 16, 2005, as supplemented by letters dated June 23 and August 25, 2006.

Brief description of amendments: The change revised Technical Specifications (TSs) 3.3.2, “ESFAS [Engineered Safety Features Actuation System] Instrumentation”; and 3.5.2, “ECCS [Emergency Core Cooling System]—Operating.”

Date of issuance: October 5, 2006.

Effective date: As of the date of issuance and shall be implemented within 120 days from the date of issuance for TS 3.5.2 revisions, and within 120 days from the completion of the 12th refueling outage of Unit 1, for TS 3.3.2 revisions.

Amendment Nos.: 129 and 129.

Facility Operating License Nos. NPF-87 and NPF-89: The amendments revised the Technical Specifications.

Date of initial notice in Federal Register: March 14, 2006 (71 FR 13179). The supplements dated June 23 and August 25, 2006, provided additional information that clarified the application, did not expand the scope of the application as originally noticed, and did not change the staff's original proposed no significant hazards consideration determination as published in the Federal Register.

The Commission's related evaluation of the amendments is contained in a Safety Evaluation dated October 5, 2006.

No significant hazards consideration comments received: No.

Wolf Creek Nuclear Operating Corporation, Docket No. 50-482, Wolf Creek Generating Station, Coffey County, Kansas

Date of amendment request: July 23, 2004, as supplemented by letters dated August 11 and September 22, 2006.

Brief description of amendment: The amendment revised Technical Specification (TS) 3.6.3, “Containment Isolation Valves,” by (1) adding the abbreviation “(CIV)” for containment isolation valve in Condition A of the Actions for the Limiting Condition for Operation; (2) deleting the note and revising Condition A to be for only one penetration flow path with one CIV inoperable; (3) revising the completion time for Required Condition A.1 from 4 hours to as much as 7 days depending on the category of the inoperable CIV; and (4) revising Condition C to be for two or more penetration flow paths with one CIV inoperable. The amendment also added two conditions to the license.

Date of issuance: September 28, 2006.

Effective date: Effective as of its date of issuance and shall be implemented prior to the start of Refueling Outage 18, which is scheduled to start in spring 2008.

Amendment No.: 167.

Facility Operating License No. NPF-42. The amendment revised Appendix A, “Technical Specifications,” and Appendix D, “Additional Conditions,” of the license.

Date of initial notice in Federal Register: December 7, 2004 (69 FR 70724). The supplemental letters dated August 11 and September 22, 2006, provided additional information that clarified the application, did not expand the scope of the application as originally noticed, and did not change the NRC staff's original proposed no significant hazards consideration determination published in the Federal Register.

The Commission's related evaluation of the amendment is contained in a Safety Evaluation dated September 28, 2006.

No significant hazards consideration comments received: No.

Wolf Creek Nuclear Operating Corporation, Docket No. 50-482, Wolf Creek Generating Station, Coffey County, Kansas

Date of amendment request: June 2, 2006.

Brief description of amendment: The amendment revised Surveillance Requirement 3.5.2.8 by replacing the phrase “trash racks and screens” with the word “strainers.” The amendment reflects the replacement of the containment sump suction inlet trash racks and screens with a complex strainer design with significantly larger effective area in the upcoming Refueling Outage 15.

Date of issuance: October 5, 2006.

Effective date: As of its date of issuance and shall be implemented prior to the entry into Mode 4 in the restart from the fall 2006 refueling outage.

Amendment No.: 168.

Facility Operating License No. NPF-42: The amendment revised the Technical Specifications.

Date of initial notice in Federal Register: July 18, 2006 (71 FR 40756) The Commission's related evaluation of the amendment is contained in a Safety Evaluation dated October 5, 2006.

No significant hazards consideration comments received: No.

Wolf Creek Nuclear Operating Corporation, Docket No. 50-482, Wolf Creek Generating Station, Coffey County, Kansas

Date of amendment request: June 30, 2006.

Brief description of amendment: The amendment revised Technical Specification (TS) 5.5.9, “Steam Generator (SG) Program,” by changing the “Refueling Outage 14” to “Refueling Outage 15” in two places. This change extended the provisions for SG tube repair criteria and inspections that were approved for Refueling Outage 14, and the subsequent operating cycle, in Amendment No. 162 issued April 28, 2005, to the upcoming Refueling Outage 15, and the subsequent operating cycle.

Date of issuance: October 10, 2006.

Effective date: As of its date of issuance and shall be implemented prior to entry into Mode 4 during the startup from Refueling Outage 15, scheduled to begin in October 2006.

Amendment No.: 169.

Facility Operating License No. NPF-42: The amendment revised the Technical Specifications.

Date of initial notice in Federal Register: July 24, 2006 (71 FR 41845) The Commission's related evaluation of the amendment is contained in a Safety Evaluation dated October 10, 2006.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹

To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer or the Atomic Safety and Licensing Board that the petition, request and/or the contentions should be granted based on a balancing of the factors specified in 10 CFR 2.309(a)(1)(i)-(viii).

Duke Power Company LLC, Docket Nos. 50-269, 50-270, and 50-287, Oconee Nuclear Station, Units 1, 2, and 3, Oconee County, South Carolina

Date of amendment request: September 27, 2006, as supplemented October 2 and 3, 2006.

The supplement dated October 2 and 3, 2006, provided additional information that claried the application, did not expand the scope of the original proposed no significant hazards consideration (NSHC) determination, and did not change the NRC staff's original proposed NSHC determination.

Description of amendment request: The amendments extend the Completion Time of Technical Specification 3.8.1, “AC Sources—Operating,” Required Action C.2.2.5 for one time only from 45 days to 75 days to allow time for repairs of Keowee Hydro Unit #2.

Date of issuance: October 3, 2006.

Effective date: As of the date of issuance and shall be implemented on or before October 3, 2006.

Amendment Nos.: 354, 356, 355.

Renewed Facility Operating License Nos. DPR-38, DPR-47, and DPR-55: Amendments revised the technical specifications.

Public comments requested as to proposed no significant hazards consideration (NSHC): Yes. Public notice of the proposed amendments was published in the Greenville News on September 29 and 30, and October 1, 2006, and in the Anderson Independent on September 29 and October 1, 2006. The notice issued a proposed NSHC and provided an opportunity to submit comments to the NRC staff on the Commission's proposed NSHC determination by close of business on October 3, 2006. No comments have been received.

The Commission's related evaluation of the amendment, finding of exigent circumstances, consultation with the State of South Carolina, and final NSHC determination are contained in a safety evaluation dated October 3, 2006.

Attorney for licensee: Ms. Lisa F. Vaughn, Duke Power Company LLC, 526 South Church Street, Charlotte, North Carolina, 28201-1006.

NRC Branch Chief: Evangelos C. Marinos.

Florida Power and Light Company, Docket No. 50-250, Turkey Point Nuclear Plant, Unit 3, Miami-Dade County, Florida

Date of amendment request: September 8, 2006.

Description of amendment request: The amendment allows the use of an alternate method for determining the position of Control Rod M-6, which has an inoperable analog rod position indicator (ARPI), until the ARPI is repaired, but no later than the Cycle 23 refueling outage scheduled for the fall of 2007.

Date of issuance: October 5, 2006.

Effective date: As of the date of issuance.

Amendment No.: 230.

Facility Operating License Nos. DPR-31: Amendment revises the technical specifications.

Public comments requested as to proposed no significant hazards consideration (NSHC): Yes (71 FR 54691, dated September 18, 2006). The notice provided an opportunity to submit comments on the Commission's proposed NSHC determination. No comments have been received. The notice also provided an opportunity to request a hearing by November 17, 2006, but indicated that if the Commission makes a final NSHC determination, any such hearing would take place after issuance of the amendment.

The Commission's related evaluation of the amendment, finding of exigent circumstances, state consultation, and final NSHC determination are contained in a safety evaluation dated October 5, 2006.

Attorney for licensee: M.S. Ross, Managing Attorney, Florida power and Light Company, P.O. Box 14000, Juno Beach, FL 33408-0420.

NRC Branch Chief: L. Raghavan.

Dated at Rockville, Maryland, this 13th day of October 2006.
For the Nuclear Regulatory Commission.
Catherine Haney,
Director, Division of Operating Reactor Licensing, Office of Nuclear Reactor Regulation.

[FR Doc. E6-17546 Filed 10-23-06; 8:45 am]

BILLING CODE 7590-01-P